DEPARTMENT OF DEFENSE

Department of the Navy

Notice of Intent To Grant a Partially Exclusive Patent License; United States—Vietnam Foundation

AGENCY: Department of the Navy, DoD.

ACTION: Notice.

SUMMARY: The Department of the Navy hereby gives notice of its intent to grant to United States-Vietnam Foundation, a revocable, nonassignable, partially exclusive license to practice worldwide the Government owned inventions described in the invention disclosed and claimed in International Application Number PCT/US2005/019963, with the International Filing Date of June 6, 2005, which was published on December 14, 2006 with the International Publication Number WO 2006/132635 A1, for “Hand-Held Fluorescence Polarimeter”; and the national stage patent applications to be filed in Vietnam, Thailand, Cambodia, Laos, Indonesia, the Philippines and Myanmar in the fields of screening and diagnosis of: (1) Infectious diseases; (2) viral-induced cancer, such as Human Paplloma Virus/AIDs; and (3) toxins.

DATES: Anyone wishing to object to the grant of this license must file written objections along with supporting evidence, if any, not later than November 13, 2007.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone: 301-319-7428.

(Authority: 35 U.S.C. 207, 37 CFR Part 404.)

Dated: October 23, 2007.
T.M. Cruz,
Lieutenant, Judge Advocate General's Corps, U.S. Navy, Federal Register Liaison Officer.

[FR Doc. E7-21206 Filed 10-26-07; 8:45 am]

BILLING CODE 3810-FF-P